DEPARTMENT OF EDUCATION

[CFDA No. 84.214A]

Migrant Education Even Start Program; Notice Inviting Applications for New Awards for Fiscal Year (FY) 2000

AGENCY: Department of Education.

Note to Applicants

This notice is a complete application package. Together with the statute authorizing the program and the Education Department General Administrative Regulations, the notice contains all of the information, application forms, and instructions needed to apply for a grant under this competition.

Purpose of Program

The Migrant Education Even Start (MEES) program is designed to help break the cycle of poverty and improve the literacy of participating migrant families by integrating early childhood education, adult literacy or adult basic education (including English language training, as appropriate), and parenting education into a unified family literacy program.

Eligible Applicants

While any entity is eligible to apply for a grant under the MEES program, the Secretary specifically invites applications from State educational agencies (SEAs) that administer migrant education programs; local educational agencies (LEAs) that have a high percentage of migrant students; and non-profit community-based organizations that work with migrant families.

Deadlines and Awards

Deadline for Transmittal of Applications: July 14, 2000.

Deadline for Intergovernmental Review: September 12, 2000.

Available Funds: For FY 2000, approximately $3,600,000 is available for new grants under this program.

Estimated Range of Awards: $75,000-$300,000.

Estimated Average Size of Awards: $200,000.

Estimated Number of Awards: 16-18.

Note: The Department is not bound by any estimates in this notice.

Project Period: Up to 48 months.

Applicable Regulations

(a) The Education Department General Administrative Regulations as follows:

(1) 34 CFR Part 74 (Administration of Grants and Agreements with Institutions of Higher Education, Hospitals, and Nonprofit Organizations).

(2) 34 CFR Part 75 (Direct Grant Programs).

(3) 34 CFR Part 77 (Definitions that Apply to Department Regulations).

(4) 34 CFR Part 79 (Intergovernmental Review of Department of Education Programs and Activities).

(5) 34 CFR Part 80 (Uniform Administrative Requirements for Grants and Cooperative Agreements to State and Local Governments).

(6) 34 CFR Part 81 (General Education Provisions Act—Enforcement).

(7) 34 CFR Part 82 (New Restrictions on Lobbying).

(8) 34 CFR Part 85 (Governmentwide Debarment and Suspension (Non-procurement)) and Governmentwide Requirements for Drug-Free Workplace (Grants)).

(9) 34 CFR Part 97 (Protection of Human Subjects).

(10) 34 CFR Part 98 (Student Rights in Research, Experimental Programs, and Testing).

(11) 34 CFR Part 99 (Family Educational Rights and Privacy).

(b) The definitions of a migratory child, a migratory agricultural worker and a migratory fisher contained in 34 CFR 200.40.

Description of Program

Under the authority of section 1202(a)(1)(A) of the Elementary and Secondary Education Act, as amended (ESEA), the Assistant Secretary for Elementary and Secondary Education (Assistant Secretary) awards grants to eligible applicants under the MEES program for projects that—

(1) Improve the educational opportunities of migrant families by integrating early childhood education, adult literacy or adult basic education (including English language training, as appropriate), and parenting education into a unified program of family literacy services.

Note: The term “family literacy services” is defined in ESEA section 1202(e) as services provided to participants on a voluntary basis that are of sufficient intensity in terms of hours, and of sufficient duration, to make sustainable changes in a family, and that integrate all of the following activities:

(A) Interactive literacy activities between parents and their children.

(B) Training for parents regarding how to be the primary teacher for their children and full partners in the education of their children.

(C) Parent literacy training that leads to economic self-sufficiency.

(D) An age-appropriate education to prepare children for success in school and life experiences.

(2) Implement cooperative activities that build on existing community resources to create a new range of services to migrant families.

(3) Promote school readiness, early reading acquisition, adult literacy and lifelong learning, and parent involvement and participation in their child's education.

(4) Where possible, use research-based strategies for developing literacy and reading proficiency and, where applicable, second language acquisition.

(5) Assist children and adults from migrant families to achieve challenging State content standards and challenging State student performance standards.

Program Requirements

(a) Eligible Participants

Eligible MEES participants consist of migratory children and their parents as defined in 34 CFR 200.30 and 200.40 who also meet the following conditions specified in section 1206(a) of the ESEA:

(1) The parent or parents—

(i) Are eligible for participation in an adult basic education program under the Adult Education Act and Family Literacy Act; or

(ii) Are within the State's compulsory school attendance age range, so long as a local educational agency provides (or ensures the availability of) the basic education component required under this part; and

(2) The child or children must be younger than eight years of age.

Note: Family members of eligible participants described in paragraphs (a)(1) and (a)(2) may also participate in MEES activities. These participants include siblings, grandparents, and other family members as long as one or more eligible children and their parents or guardian participate in the core services. In addition, section 1206(b) of the ESEA permits families to remain eligible for MEES services until all family members become ineligible to participate. For example, in the case of a family in which the parent or parents lose eligibility because of their educational advancement, the parent or parents can still participate in MEES activities until all children in the family reach age eight. If all children in the family have reached the age of eight, the family continues to be eligible for Even Start services for two more years (until the youngest participating child turns ten) or until the parents are no longer eligible for adult basic education under the Adult Education and Family Literacy Act, whichever occurs first. In addition, the Department interprets 34 CFR 200.30 together with section 1206(b) of ESEA to mean that MEES services can continue to be provided to a parent or child who is no longer migratory, provided that the family has at least one parent or child who is a migratory worker or migratory child as these terms are defined under 34 CFR 200.40.

(b) Required Program Elements

Any MEES project must, at a minimum, incorporate the following program elements specified in section 1205 of the ESEA:

• Identification and recruitment of migrant families most in need of MEES services, as indicated by a low level of income, a low level of adult literacy or English language proficiency of the eligible parent or parents, and other need-related indicators. (Note: MEES program services may be provided in communities where migratory families have resided for extended periods of time. 34 CFR 200.30 and 200.40 make children eligible for MEES services up to three years after they make a move that makes the children eligible for the Migrant Education Program (MEP). However, in developing and using their need-related indicators to identify and recruit those migrant families most in need of MEES program services, the Secretary believes that the most effective MEES projects are likely to focus on families that are highly mobile or who have only recently moved to the communities that those projects serve. In this regard, the MEP statute (section 1304(d) of the ESEA) provides that migrant students whose education has been interrupted and who are at most risk of failing must be given a priority in services that the program offers. While this MEP priority is not an explicit requirement of the MEES program, one would assume, because of the purpose of the MEES program, that the highly mobile families whose children receive a priority under the MEP also have the greatest need for MEES services.)

• Screening and preparation of parents, including teenage parents, to enable these parents to participate fully in program activities and services, including testing, referral to counseling, other developmental and support services, and related services.

• High-quality, intensive instructional programs that promote adult literacy and empower parents to support the educational growth of their children, developmentally appropriate early childhood educational services, and preparation of children for success in the regular school programs.

• A design for service delivery that accommodates the participants' work schedules and other responsibilities, including the provision of support services, when such services are unavailable from other sources, necessary for participation in project activities, such as—

Scheduling and locating of services to allow joint participation by parents and children;

Child care for the period that parents are involved in the project activities.

• Transportation for the purpose of enabling parents and their children to participate in project activities.

• Special training of staff, including child care staff, to develop the skills necessary to work with parents and young children in the full range of instructional services offered through the Even Start Family Literacy program.

• Providing and monitoring integrated instructional services to participating parents and children through home-based activities.

• Operation on a year-round basis, including the provision of some program services, instructional or enrichment, during the summer months.

• Appropriate coordination with other programs funded under the ESEA, any relevant programs under the Adult Education and Family Literacy Act, the Individuals with Disabilities Education Act, the Workforce Investment (Employment Training) Act, Head Start, volunteer literacy programs, and other relevant programs. (Note: In addition, to promote strong community collaboration, sections 1202(e) and 1207(a) of the ESEA require applicants for grants under the basic Even Start Family Literacy program administered by SEAs to be partnerships composed of (1) a local educational agency (LEA), and (2) a non-profit community-based organization, a public agency other than an LEA, an institution of higher education, or a public or private nonprofit organization of demonstrated quality other than an LEA. While these provisions are not requirements of the MEES program, the Secretary believes that the most effective MEES projects are also likely to contain strong, on-going collaborative relationships among these kinds of local entities.)

• Ensure that the project will serve families most in need of MEES family literacy services.

• An independent local evaluation. (Note: The Secretary encourages projects to use local evaluators for MEES projects who understand the family literacy model, are able to work with the project as a partner in designing the evaluation, and will help the project use its evaluation results in an on-going way for continuous program improvement.)

(c) Federal and Local Funding

A MEES project's funding is comprised of both a Federal portion of funds (Federal share) and a portion contributed by the eligible applicant (local share). However, the Federal share of the program may not exceed—

• 90 percent of the total cost of the project in the first year;

• 80 percent in the second year;

• 70 percent in the third year;

• 60 percent in the fourth year;

• 50 percent in the fifth, sixth, seventh, and eighth years; and

• 35 percent in any following year.

The local share of the MEES project may be provided in cash or in kind and may be obtained from any source, including other Federal programs funded under the ESEA. Indirect costs are not an allowable cost either for the Federal share or the matching portion of a MEES project.

Invitational Priority

The Secretary is especially interested in receiving applications that include a plan demonstrating that grant activities will focus on one or more approaches described in this section. However, an application that meets one of more of these invitational priorities does not receive competitive or absolute preference over other applications (34 CFR 75.105(c)(1)).

Coordination across SEAs and local school districts is at the heart of migrant education's purpose: To mitigate disruptions in the education of qualifying migrant students. Short-term MEES seasonal projects can provide intensity of services to migratory families, but those projects may not be of sufficient duration to demonstrate long-term gains for students or to increase the level of economic self-sufficiency of migrant parents, and may be another disruption in completing the family's educational goals.

Therefore, to promote opportunities for continuous learning by migrant families, the Secretary is particularly interested in receiving applications that propose to include one or more of the following activities—

• Coordinate continuing family literacy services across State and local school district boundaries to meet the needs of highly mobile migrant agricultural families.

• Coordinate their activities with State and local endeavors to improve family literacy services; promote early reading proficiency, employ Federal Work-Study tutoring programs; create partnerships for family involvement in education; or other initiatives that foster early school success.

• Support the unique needs of single parent migrant families whose needs for child care and instructional services do not align with traditional schedules for educational and family support services.

• Build networks with agricultural employers to coordinate and integrate resources that support English literacy for migrant agricultural families with limited English proficiency needs.

Selection Criteria

The Secretary uses the following selection criteria to evaluate applications for grants under this competition.

(1) The maximum score for all of these criteria is 100 points.

(2) The maximum score for each criterion is indicated in parentheses.

(a) Meeting the Purposes of the Authorizing Statute (5 Points)

The Secretary reviews each application to determine how well the project will—

(1) Improve the educational opportunities of migrant families by integrating early childhood education, adult literacy or adult basic education (including English language training, as appropriate), and parenting education into a unified family literacy program.

(2) Be implemented through cooperative projects that build on existing community resources to create a new range of services to migrant families.

(3) Promote the achievement of family literacy goals (particularly the goals that address school readiness, student achievement, adult literacy, and parent involvement and participation in their child's early education) through research-based reading and English-language acquisition practices that meet the diverse needs of the migrant community of learners.

(4) Assist children and adults from migrant families to achieve the challenging State content standards and challenging State student performance standards.

(b) Need for Project (20 Points)

The Secretary considers the need for the proposed project. In determining the need for the proposed project, the Secretary considers the following factors:

(1) The magnitude of the need for the services to be provided or the activities to be carried out by the proposed project.

(2) The extent to which the proposed project will focus on serving or otherwise addressing the needs of disadvantaged individuals (i.e., eligible migrant agricultural or fishing families).

(3) The extent to which specific gaps or weaknesses in services, infrastructure, or opportunities have been identified and will be addressed by the proposed project, including the nature and magnitude of those gaps or weaknesses.

Note: Applicants are free to address criterion (b) in any way that they wish. However, given the purpose of the MEES program, the Secretary believes that high-quality applications will likely include a discussion of the following key elements:

(i) How the project would be located in an area or areas with high percentages or large numbers of migratory children and their parents, guardians, or primary caretakers in need of MEES services.

(ii) How the project will address the lack of existing comprehensive family literacy services for the migrant population.

(iii) How community resources will be used to benefit project participants both during the participants' period of eligibility for migrant education services, and in the event that participating families lose their eligibility for MEES services during the project period.

(iv) How the project will integrate child development, adult literacy, and parenting activities.

(v) How the project will assist migrant children and adults to achieve the State content standards and student performance standards.

In addition, some migrant families may settle in a community during their enrollment and therefore cease to meet the eligibility requirements outlined in the Program Requirements section of this notice; therefore, the Secretary also believes that high-quality applications will likely include a plan for ensuring that these families have ongoing access to family literacy services when their enrollment can no longer be supported with basic MEP or MEES program funds. In this regard, an applicant might, for example, consider providing a succinct description of how the project will fill any gaps in services, or how it will connect families with existing resources or services as they settle in the community.

(c) Quality of the Project Design (20 Points)

The Secretary considers the quality of the design of the proposed project. In determining the quality of the design of the proposed project, the Secretary considers the following factors:

(1) The extent to which the design of the proposed project is appropriate to, and will successfully address, the needs of the target population or other identified needs.

(2) The extent to which the project is designed to build capacity and yield results that will extend beyond the period of Federal financial assistance.

(3) The extent to which the proposed project will establish linkages with other appropriate agencies and organizations providing services to the target population.

Note: Applicants are free to address criterion (c) in any way that they wish. However, the Secretary believes that, in designing their project, high-quality applications likely will address each of the required program elements in section 1205 of the ESEA and listed in the Program Requirements section of this notice. In this regard, the Secretary believes that a high-quality application likely would explain how its proposed design addresses each one of those requirements in order to fully meet the needs of its target population. For example, given the mobility of the migrant population to be served by the MEES program, the Secretary believes that high-quality applications will likely include strategies that support family education plans whether or not families are resident in a community throughout a given project year or its continuation years.

In addressing the requirement that projects conduct family literacy services year-round, the Secretary acknowledges that migrant families may reside in communities for varying lengths of time. Therefore, the Secretary interprets the requirement that projects operate on a year-round basis to mean that project activities must be conducted not only throughout the period in which participating migrant families reside in the project area, as well as times when alternative activities or services, or both, are offered. The Secretary strongly encourages applicants to explore ways to maintain contact and continue to monitor the progress of highly mobile families whether or not they are resident in the applicant's community.

Examples of strategies that address the requirement for year-round operations and ongoing family participation when families do not reside in the project area may include distance learning; capacity building and partnership efforts with sending and receiving States and school districts; self-paced learning packages; and other materials, technologies, and activities that make year-round literacy services viable and family-friendly for migrant workers.

(d) Quality of Project Services (20 Points)

The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers the following factors:

(1) The extent to which the training or professional development services to be provided by the proposed project are of sufficient quality, intensity, and duration to lead to improvements in practice among the recipients of those services.

(2) The extent to which the services to be provided by the proposed project reflect up-to-date knowledge from research and effective practice.

(3) The extent to which the training or professional development services to be provided by the proposed project are of sufficient quality, intensity, and duration to lead to improvements in practice among the recipients of those services.

(4) The extent to which the services provided by the proposed project are focused on those with the greatest needs.

(5) The likelihood that the services to be provided by the proposed project will lead to improvements in the achievement of students as measured against rigorous academic standards.

(e) Adequacy of Resources (15 Points)

The Secretary considers the adequacy of resources for the proposed project. In determining the adequacy of resources for the proposed project, the Secretary considers the following factors:

(1) The relevance and demonstrated commitment of each partner in the proposed project to the implementation and success of the project.

(2) The extent to which the costs are reasonable in relation to the objectives, design, and potential significance of the proposed project.

(3) The potential for continued support of the project after Federal funding ends, including, as appropriate, the demonstrated commitment of appropriate entities to such support.

(4) The extent to which costs are reasonable in relation to the number of persons to be served and the anticipated results and benefits.

(f) Quality of the Project Evaluation. (20 Points)

The Secretary considers the quality of the evaluation to be conducted of the proposed project.

In determining the quality of the evaluation, the Secretary considers the following factors:

(1) The extent to which the methods of evaluation provide for examining the effectiveness of project implementation strategies.

(2) The extent to which the methods of evaluation will provide performance feedback and permit periodic assessment of progress toward achieving intended outcomes.

(3) The extent to which the methods of evaluation are thorough, feasible, and appropriate to the goals, objectives, and outcomes of the proposed project.

(4) The extent to which methods of evaluation include the use of objective performance measures that are clearly related to the intended outcomes of the project and will produce quantitative and qualitative data to the extent possible.

(5) The extent to which the evaluation will provide guidance about effective strategies suitable for replication or testing in other settings.

Note: Applicants are free to address criterion (f) in any way they wish. However, Section 1205(10)of the ESEA requires applicants must conduct an independent evaluation of their project. In addition, they must participate in the national Even Start data collection effort. Given these two requirements, the Secretary believes that high-quality applications are likely to address this criterion by explaining how the project will conduct an ongoing, independent, local evaluation to ensure that the quality of the proposed family literacy services are validated and improved over the course of the four-year project period.

In addition, the Secretary believes that high-quality applicants would likely bear in mind the following information in considering how they intend to report the effectiveness of their project. Funded projects are required to complete an annual performance report on their progress in meeting the approved objectives of their grant to ensure continued funding. These reports and other evaluation information provide local projects, the Department, and the Congress with objective data about the activities and services provided by the project, the participants served, the retention rates of those participants, and the success of the families in the project. The Department has also developed a set of performance indicators for the Even Start Family Literacy Program in accordance with the Government Performance and Results Act (GPRA) that relate to participant outcomes and project management. These indicators are appended to this application package. The Secretary encourages applicants to refer to these indicators when developing their evaluation plans, as the Department uses these indicators in reporting to the Congress on the overall effectiveness of the program.

The following items are not part of the program's selection criteria, but provide additional information for applicants.

National Evaluation

The Department is conducting a national evaluation of Even Start Family Literacy projects. MEES program grantees must cooperate with the Department's efforts by adopting an evaluation plan that is consistent with the national evaluation (as well as with the grantee's responsibilities under section 1205(10) of the ESEA and 34 CFR 74.51, 75.118, 75.253, and 80.40).

The Secretary suggests that each applicant budget for evaluation activities as follows: in addition to the costs of planning and conducting an independent local evaluation, a project with an estimated budget of up to $120,000 should designate $5,000 for this purpose; and a project with an estimated cost of over $120,000 should designate $10,000 for these activities. These funds will be used for expenditures related to the collection and entry of data required for the Department's national evaluation. The Secretary also recommends that applicants budget for the cost of travel to Washington, DC and three nights' lodging for the project director and project evaluator, for their participation in annual technical assistance/evaluation meetings.

Government Performance Results Act: Even Start Performance Indicators

Even Start Family Literacy Program Performance Plan: Objectives and Indicators

Objective 1. The literacy of participating families will improve.

1.1 Adult literacy achievement. Increasing percentages of Even Start adults will achieve significant learning gains on measures of math and reading skills.

1.2 Adult educational attainment. Increasing percentages of adult secondary education Even Start participants will obtain their high school diploma or equivalent.

1.3 Children's language development and reading readiness. Increasing percentages of Even Start children will achieve significant gains on measures of language development and reading readiness.

1.4 Parenting skills. Increasing percentages of parents will show significant improvement on measures of parenting skills, home environment, and expectations for their children.

Objective 2. Even Start projects will reach their target population of families who are most in need of services.

2.1 Recruitment of most in need. The projects will continue to recruit low-income, disadvantaged families with low literacy levels.

Objective 3. Local Even Start projects will provide high-quality, comprehensive instructional and support services to all families in a cost-effective manner.

3.1 Service hours. Increasing percentages of projects will offer at least 60 hours of adult education per month, at least 20 hours of parenting education per month, and at least 65 hours of early childhood education per month.

3.2 Participation, retention and continuity. Projects will increasingly improve retention and continuity of services.

Information by Project and Budget Periods

Under 34 CFR 75.112 and 75.117, an eligible applicant must propose a project period, and provide budgetary information for each budget period of that proposed project period. The Secretary requires that the budgetary information include an amount for all key project components with an accompanying breakdown of any subcomponents, along with a written justification for all requested amounts. (A form for reporting this information is contained in the appendix of this notice.)

Section 75.112(b) also requires that an applicant describe how and when, in each budget period of the project, it plans to meet each objective of the project.

(Note: The Department will use this information, in conjunction with the grantee's annual performance report required under 34 CFR 75.118(a), to determine whether a continuation award for the subsequent budget year should be made. Under 34 CFR 75.253, a grantee can receive a continuation award only if it demonstrates that it either has made substantial progress toward meeting the objectives of the approved project, or has received the Assistant Secretary's approval of changes in the project to enable it to meet the objectives in the succeeding budget periods.)

As indicated in the Note to the selection criterion (f) (Quality of project evaluation), each project must conduct an independent local evaluation. In budgeting for the cost of this independent local evaluation, you may wish to contact potential local evaluators, such as researchers or teachers at local community colleges or universities, to ascertain a typical hourly rate.

Intergovernmental Review of Federal Programs

This program is subject to the requirements of Executive Order 12372 (Intergovernmental Review of Federal Programs) and the regulations in 34 CFR Part 79.

One of the objectives of the Executive order is to foster an intergovernmental partnership and a strengthened federalism. The Executive Order relies on processes developed by State and local governments for coordination and review of proposed Federal financial assistance.

If you are an applicant, you must contact the appropriate State Single Point of Contact (SPOC) to find out about, and to comply with, the State's process under Executive Order 12372. If you propose to perform activities in more than one State, you should immediately contact the SPOC for each of those States and follow the procedure established in each State under the Executive order. You may view the latest official SPOC list on the Web site of the Office of Management and Budget at the following address: http://www.whitehouse.gov/omb/grants

In States that have not established a process or chosen a program for review, State, area-wide, regional, and local entities may submit comments directly to the Department.

Any State Process Recommendation and other comments submitted by a SPOC and any comments from State, areawide, regional, and local entities must be mailed or hand-delivered by the date indicated in this notice to the following address: The Secretary, E.O. 12372—CFDA# 84.214A, U.S. Department of Education, Room 7E200, 400 Maryland Avenue, SW., Washington, DC 20202-0125.

We will determine proof of mailing 34 CFR 75.102 (Deadline date for applications). Recommendations or comments may be hand-delivered until 4:30 p.m. (Washington, D.C. time) on the date indicated in this notice.

Note: Please note that the above address is not the same address as the one to which the applicant submits its completed application. Do not send applications to the above address.

Application Instructions and Forms

The appendix to this application is divided into three parts plus a statement regarding estimated public reporting burden and various assurances and certifications. These parts and additional materials are organized in the same manner that the submitted application should be organized. The parts and additional materials are as follows:

Part I: Application for Federal Assistance (Standard Form 424) and instructions.

Part II: Budget Information—Non-Construction Programs (ED Form No. 524) and instructions.

Part III: Application Narrative.

Additional Materials:

• Estimated Public Reporting Burden.

• Assurances—Non-Construction Programs (Standard Form 424B).

• Certifications regarding Lobbying; Debarment, Suspension, and Other Responsibility Matters; and Drug-Free Workplace Requirements (ED 80-0013, 12/98).

• Certification regarding Debarment, Suspension, Ineligibility and Voluntary Exclusion: Lower Tier Covered Transactions (ED 80-0014, 9/90) and instructions. (Note: ED 80-0014 is intended for the use of grantees and should not be transmitted to the Department.)

• Disclosure of Lobbying Activities (Standard Form LLL) (if applicable) and instructions; and Disclosure of Lobbying Activities Continuation Sheet (Standard Form LLL-A).

You may submit information on a photocopy of the application and budget forms, the assurances, and the certifications. However, the application form, the assurances, and the certifications must each have an original signature. No grant may be awarded unless a completed application form has been received.

Individuals with disabilities may obtain this document in an alternative format (e.g., Braille, large print, audiotape, or computer diskette) on request to the contact person listed under FOR FURTHER INFORMATION CONTACT. However, the Department is not able to reproduce in an alternative format the standard forms included in the application package.

For Further Information Contact

DonnaMarie Marlow, U.S. Department of Education, Office of Elementary and Secondary Education, Office of Migrant Education, 400 Maryland Avenue, SW., Room 3E313, Washington, DC 20202-6135. Telephone: (202) 260-1164. The program contact may also be reached via e-mail at donnamarie_marlow@ed.gov. If you use a telecommunications device for the deaf (TDD), you may call the Federal Information Relay Service (FIRS) at 1-800-877-8339.

Instructions for Transmittal of Applications

(a) If an applicant wants to apply for a grant, an applicant must—

(1) Mail the original and two copies of the application on or before the deadline date to: U. S. Department of Education, Application Control Center, Attention: (CFDA #84.214A), Washington, DC 20202-4725.

(2) Hand deliver the original and two copies of the application by 4:30 p.m. (Washington, DC time) on the deadline date to: U.S. Department of Education, Application Control Center, Attention: (CFDA# 84.214A), Room #3633, Regional Office Building #3, 7th and D Streets, SW., Washington, DC 20202.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9494.

(3) The applicant must indicate on the envelope and—if not provided by the Department—in Item 10 of the Application for Federal Assistance (Standard Form 424) the CFDA number—and suffix letter, if any—of the competition under which the application is being submitted.

Electronic Access to This Document

You may view this document, as well as all other Department of Education documents published in the Federal Register, in text or portable document format (pdf) on the World Wide Web at either of the following sites:

http://ocfo.ed.gov/fedreg.htm

http://www.ed.gov/news.html

To use the PDF you must have the Adobe Acrobat Reader Program with Search, which is available free at either of the previous sites. If you have questions about using the PDF, call the U.S. Government Printing Office toll free at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 6362(a)(1)(A).

Dated: May 24, 2000.
Michael Cohen,
Assistant Secretary for Elementary and Secondary Education.

Instructions for Part III—Application Narrative

Before preparing the Application Narrative, an applicant should read carefully the description of the program and the selection criteria the Secretary uses to evaluate applications.

The narrative should encompass each function or activity for which funds are being requested and should—

1. Begin with an Abstract; that is, a summary of the proposed project.

2. Describe the proposed project in light of each of the selection criteria in the order in which the criteria are listed in this application package. (Note: While applicants can address the criteria in any way that is reasonable, given the required emphasis of any MEES project on an integrated program of early childhood education, adult literacy or adult basic education, and parenting education, the Secretary believes that a reasonable plan of operation would likely address how the proposed project will provide high-quality instruction in these three areas that, with interactive literacy activities between parents and children (PACT), is integrated into a unified family literacy program. Moreover, consistent with 34 CFR 75.112(b), which requires that the application describe how and when, in each budget period, the applicant plans to meet each project objective, the Secretary believes that applicants would want particularly to describe each goal in terms of measurable objectives, specific activities that are proposed to meet each objective, time lines associated with these activities, the resources believed to be needed to achieve each objective, and how each objective will be evaluated.)

3. Provide the following information in response to the attached NOTICE TO ALL APPLICANTS: (1) A reference to the portion of the application in which the applicant has described the steps that the applicant proposes to take to remove barriers to equitable access to, and equitable participation in, project activities; or (2) a separate statement that includes this information.

4. Include any other pertinent information that might assist the Secretary in reviewing the application.

Page Limit: The application narrative (Part III of the application) is where the applicant addresses the selection criteria reviewers use to evaluate your application. The recommended page limit for this application is 50 pages (appendices excepted), using the following standards:

• A page is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to part I, the cover sheet; Part II, the budget section, including the narrative budget justification; Part IV, the assurances and certifications; or the one-page abstract, the resumes, the bibliography, or the letters of support. However, you must include all of the application narrative in Part III.

Instruction for Estimated Public Reporting Burden

According to the Paperwork Reduction Act of 1995, no persons are required to respond to a collection of information unless it displays a valid OMB control number. The valid OMB control number for this information collection is 1810-0541. (Expiration date: 04/30/2003). The time required to complete this information collection is estimated to average 60 hours per response including the time for reviewing instructions, searching existing data sources, gathering and maintaining the data needed, and completing and reviewing the collection of information. If you have any comments concerning the accuracy of the time estimate(s) or suggestions for improving this form, please write to: US Department of Education, Washington, DC 20202-4651. If you have comments or concerns regarding the status of your individual submission of this form, write directly to: Office of Migrant Education, US Department of Education, 400 Maryland Avenue, SW, Washington, DC 20202-6135.

(Information collection approved under OMB control number 1810—0541. Expiration date: 04/30/2003.)

BILLING CODE 4000-01-U

[FR Doc. 00-13429 Filed 5-26-00; 8:45 am]

BILLING CODE 4000-01-C